DEPARTMENT OF HEALTH AND HUMAN SERVICES

Administration for Children and Families

Submission for Office of Management and Budget (OMB) Review; State Personal Responsibility Education Program (PREP) (OMB #0970-0380)

AGENCY: Family and Youth Services Bureau, Administration for Children and Families, U.S. Department of Health and Human Services.

ACTION: Request for public comments.

SUMMARY: The Family and Youth Services Bureau (FYSB) within the Administration on Children, Youth and Families (ACYF) is requesting a 3-year extension of the State Personal Responsibility Program (PREP) state plans and performance progress report (OMB #0970-0380, expiration 12/31/2023). There are no changes requested to the state plan, but there are changes requested to the performance progress report. Changes include the addition of information related to equity activities and strategies to mitigate challenges.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The State PREP has mandatory, formula allotments for state and territories to apply. The process is for states and territories to submit and for ACYF/FYSB to collect their state plans and semi-annual performance progress reports.

Purpose and Use of the Information Collection: The state plan offers information about the proposed state project and has been and will continue to be used as the primary basis to determine whether or not the project meets the minimum requirements of the legislation for the grant award. There are no changes proposed to the state plan; FYSB is requesting to use these plans for another 3 years.

The Performance Progress Reports are collected semi-annually and inform the monitoring of the grantees' program design, program evaluation, management improvement, service quality, and compliance with agreed upon goals. ACYF/FYSB has used and will continue to use the information to ensure effective service delivery for program participants. Finally, the data from this collection will be used to report outcomes and efficiencies and will provide valuable information to policy makers and key stakeholders in the development of program and research efforts. Changes are proposed to the Performance Progress Reports and include the addition of information related to equity activities and strategies to mitigate challenges. Information on equity activities will be used to support the FYSB Equity Action Plan objectives and to inform the development of T&TA resources, as needed. The purpose of including strategies to mitigate challenges is to allow grant recipients to demonstrate how they overcome challenges. This information can be used to inform peer to peer sharing.

Respondents: All 52 states and territories that are still eligible to accept their State PREP mandatory, formula allotments for funding.

Annual Burden Estimates
Instrument | Total number of respondents | Annual number of responses per respondent | Average burden hours per response | Annual burden hours
State Plans | 52 | 1 | 40 | 2,080
Performance Progress Reports | 52 | 2 | 16 | 1,664

Estimated Total Annual Burden Hours: 3,744.

Authority: Section 513 of the Social Security Act (42 U.S.C. 713), as amended by section 50503 of the Bipartisan Budget Act of 2018 (Pub. L. 115-123) extended by Division CC, Title III, Section 302 of the Consolidated Appropriations Act, 2021 (Pub. L. 116-260).

Mary C. Jones,
ACF/OPRE Certifying Officer.

[FR Doc. 2024-02749 Filed 2-9-24; 8:45 am]

BILLING CODE 4184-37-P